DEPARTMENT OF HEALTH AND HUMAN SERVICES

National Institutes of Health

Evaluation of Trichloroethylene for the Report on Carcinogens; Request for Nominations of Scientific Experts for Proposed Webinar

SUMMARY: The National Toxicology Program (NTP) Office of the Report on Carcinogens (ORoC) requests nominations of speakers for a proposed webinar to obtain information related to evaluating the potential association of exposure to trichloroethylene (TCE) and cancer.

DATES: The deadline for receipt of nominations of speakers is December 9, 2013.

ADDRESSES: Information can be submitted electronically on the ORoC TCE Web page (http://ntp.niehs.nih.gov/go/37899) or to lunn@niehs.nih.gov.

FOR FURTHER INFORMATION CONTACT: Dr. Ruth Lunn, Director, ORoC, Division of the NTP, NIEHS, P.O. Box 12233, MD K2-14, Research Triangle Park, NC 27709. Phone: (919) 316-4637, FAX: (301) 480-2970, email: lunn@niehs.nih.gov. Hand Delivery/Courier: NIEHS, Room 2138, 530 Davis Drive, Morrisville, NC 27560.

SUPPLEMENTARY INFORMATION:

Information on Proposed Webinar: TCE is a candidate substance under evaluation for the Report on Carcinogens (RoC) (http://ntp.niehs.nih.gov/go/37899). Several comprehensive reviews have identified non-Hodgkin's lymphoma and cancer of the liver and kidney as sites of concern in humans, and the RoC evaluation will be limited to these outcomes.

As part of the evaluation, the ORoC proposes to convene a webinar to obtain input on scientific issues related to evaluating human epidemiologic studies of exposure to TCE and cancer risk and use this input to help inform its cancer evaluation of TCE. The webinar will include a series of presentations by invited speakers that address the quality of the methods used in the epidemiology studies to assess exposure to TCE and cancer outcome (primarily lymphohematopoietic cancer) and information on TCE exposure in the studies. Speakers on exposure and cancer-outcome classification will be asked to (1) identify the methods used to assess exposure or outcome, (2) discuss the validity and reliability of the methods used to classify exposure (such as job title, job exposure matrix, biomonitoring, and expert assessment) or cancer outcome (such as mortality or incidence data), and (3) examine how misclassification of exposure (either qualitative or quantitative) or cancer outcome would affect interpretation of the study's findings. The speaker addressing TCE exposure will be asked to compare measured or estimated levels of exposure to TCE and its prevalence in the epidemiologic studies and to discuss how these data may explain potential heterogeneity of findings across studies and inform the assessment for a specific type of cancer.

It is envisioned that the webinar will include time for questions to speakers by webinar attendees and open discussion. Once plans are finalized, the list of speakers and logistical details for the webinar will be announced in the Federal Register.

Request for Nomination of Speakers: The ORoC invites nominations of speakers for the webinar with expertise in exposure assessment, industrial hygiene, cancer epidemiology, or lymphohematopoietic cancers and knowledge of cancer studies on exposure to TCE. Self nomination is permitted. Each nomination should include (1) contact information for the nominee [name, affiliation (if any), address, telephone, and email], (2) a short description of the individual's expertise relative to topics covered above in “Information on Proposed Webinar,” and (3) current curriculum vitae. Nominations of experts can be submitted on-line via the TCE candidate substance Web page (http://ntp.niehs.nih.gov/go/37899) or by email to lunn@niehs.nih.gov; receipt will be acknowledged by email. Persons submitting nominations on-line or by email should provide their name, contact information, affiliation, and sponsoring organization (if any). The deadline for nominations is December 9, 2013. Persons selected as speakers will be notified by email at least 30 days prior to the webinar.

Responses to this request for nominations are voluntary. This request for nominations is for planning purposes only. Please note that the U.S. Government will not pay for the preparation of any information submitted, and no proprietary, classified, confidential, or sensitive information should be included in the submission.

Background Information on TCE: TCE, a volatile chlorinated alkene used mainly as a metal cleaner and degreaser, has been listed in the RoC as reasonably anticipated to be a human carcinogen since 2000 (http://ntp-server.niehs.nih.gov/ntp/roc/twelfth/profiles/Trichloroethylene.pdf). The NTP selected TCE for evaluation to determine whether a change in its listing status in the RoC might be warranted because of the extensive database of recent cancer studies on TCE and the public health concern due to its pervasiveness in the environment and its presence in food, numerous consumer products, and the workplace. Additional information on the status of the RoC review of TCE is available at http://ntp.niehs.nih.gov/go/37899.

Background Information on the RoC: The RoC is a congressionally mandated, science-based, public health report that identifies agents, substances, mixtures, or exposures (collectively called “substances”) in our environment that pose a cancer hazard for people in the United States. The NTP prepares the RoC, on behalf of the Secretary of Health and Human Services, using a four-part process and established criteria (http://ntp.niehs.nih.gov/go/rocprocess). Published biennially, each edition of the RoC is cumulative and consists of substances newly reviewed in addition to those listed in previous editions. The 12th RoC, the latest edition, was published on June 10, 2011 (available at http://ntp.niehs.nih.gov/go/roc12). The 13th RoC is under development.

Dated: November 5, 2013.
John R. Bucher,
Associate Director, National Toxicology Program.

[FR Doc. 2013-26909 Filed 11-8-13; 8:45 am]

BILLING CODE 4140-01-P